DEPARTMENT OF JUSTICE

Drug Enforcement Administration

[Docket No. DEA-273N]

Solicitation of Information on the Use of Tryptamine-Related Compounds

AGENCY: Drug Enforcement Administration (DEA), Justice.

ACTION: Notice of request for information.

SUMMARY: The DEA is soliciting information on substances that are related in chemical structure to tryptamine (see SUPPLEMENTARY INFORMATION). The Controlled Substances Act (CSA), in Title 21 of the United States Code (U.S.C. 812(c) Schedule I (Title 21 of the Code of Federal Regulations (CFR 1308.11(d)), lists certain tryptamines as Schedule I controlled substances. Some tryptamines that are not controlled under the CSA produce central nervous system effects that are similar to tryptamines that are controlled under the CSA. DEA is requesting information to help determine the impact on business if these substances were to be placed under control in the CSA.

DATES: Written comments must be postmarked, and electronic comments must be sent, on or before October 3, 2006.

ADDRESSES: To ensure proper handling of comments, please reference “Docket No. DEA-273N” on all written and electronic correspondence. Written comments being sent via regular mail should be sent to the Deputy Assistant Administrator, Office of Diversion Control, Drug Enforcement Administration, Washington, DC 20537, Attention: DEA Federal Register Representative/ODL. Written comments sent via express mail should be sent to DEA Headquarters, Attention: DEA Federal Register Representative/ODL, 2401 Jefferson-Davis Highway, Alexandria, VA 22301. Comments may be directly sent to DEA electronically by sending an electronic message to dea.diversion.policy@usdoj.gov. Comments may also be sent electronically through http://www.regulations.gov using the electronic comment form provided on that site. An electronic copy of this document is also available at the http://www.regulations.gov Web site. DEA will accept attachments to electronic comments in Microsoft Word, WordPerfect, Adobe PDF, or Excel file formats only. DEA will not accept any file format other than those specifically listed here.

FOR FURTHER INFORMATION CONTACT: Christine A. Sannerud, Ph.D., Chief, Drug and Chemical Evaluation Section, Office of Diversion Control, Drug Enforcement Administration, Washington, DC 20537; Telephone: (202) 307-7183.

SUPPLEMENTARY INFORMATION: Tryptamine is a compound in which the chemical structure can be described as indole substituted at the three position with an 2-aminoethyl chain. Although tryptamine itself is not a controlled substance, its chemical structure constitutes the skeletal makeup of tryptamines listed in Schedule I of the CSA, which are classified as hallucinogenic substances.

Tryptamine is sometimes substituted on the indole ring or the 2-aminoethyl chain or both with various substituents. Title 21 CFR 1308.11(d) lists specific substituted tryptamines in Schedule I. Also included in Schedule I are the salts, isomers, and salts of isomers of the listed tryptamines. The term isomer, as used in this section, means the optical, geometric, and positional isomers.

Individuals have published detailed methods of synthesis for substituted tryptamines and have reported pharmacological effects based on user experiences. Law enforcement personnel encounter such tryptamines, but because they are substituted differently than those listed or described in the CSA, they are not subject to direct control in Schedule I. However, some of these substances can be treated as Schedule I controlled substance analogues if intended for human consumption (21 U.S.C. 802(32); § 813).

DEA is soliciting information on (1) The commercial uses for tryptamines, (2) activities involving research and development, (3) tryptamines as intermediates or analytical standards, (4) import and domestic sources for tryptamines, and (5) any planned or anticipated uses for tryptamines. DEA invites interested persons to provide any information on the uses of tryptamines in industry, academia, research and development, or other applications. Both quantitative and qualitative information is sought.

Although information is requested for all tryptamine substances regardless of substitutions, DEA is particularly interested in tryptamines that meet one or more of the following conditions: (a) Has a secondary or tertiary amine formed by the substitution on the nitrogen atom of the 2-aminoethyl chain by various alkyl groups, whether in chain or ring form (for example, N-alkyltryptamine, N,N-dialkyltryptamine, N,N-tetramethylenetryptamine), (b) has an alkyl substitution on the alpha position of the 2-aminoethyl chain, and/or (c) has substituents on the indole ring system, including, but not restricted to, various alkyl chains, halogens, hydroxyl, alkoxy, acetyl, or alkylthio groups, at one or more positions except the one (indole nitrogen) position. DEA is especially interested in learning of the uses of the following tryptamines.

2-alpha-dimethyltryptamine

4-hydroxy-N,N-diisopropyltryptamine

4-hydroxy-N,N-dipropyltryptamine

4-hydroxy-N,N-tetramethylenetryptamine

4-hydroxy-N-isopropyl-N-methyltryptamine

4-hydroxy-N-methyl-N-propyltryptamine

5,6-dimethoxy-N-isopropyl-N-methyltryptamine

5-methoxy-alpha,N-dimethyltryptamine

5-methoxy-alpha-methyltryptamine

5-methoxy-N,N-dimethyl-2-methyltryptamine

5-methoxy-N,N-dimethyltryptamine

5-methoxy-N,N-tetramethylenetryptamine

5-methoxy-N-methyltryptamine

6-methoxy-1-methyl-1,2,3,4-tetrahydro-beta-carboline

7-methoxy-1-methyl-1,2,3,4-tetrahydro-beta-carboline

9,10-didehydro-6-allyl-N,N-diethylergoline-8-beta-carboxamide

9,10-didehydro-6-propyl-N,N-diethylergoline-8-beta-carboxamide

9,10-didehydro-N,N,6-triethylergoline-8-beta-carboxamide

alpha,N-dimethyltryptamine

N,N-dibutyltryptamine

N,N-dibutyl-4-hydroxytryptamine

N,N-diethyl-2-methyltryptamine

4-hydroxy-N,N-diethyltryptamine

N,N-diethyl-5-methoxytryptamine

N,N-diisopropyl-4,5-methylenedioxytryptamine

N,N-diisopropyl-5,6-methylenedioxytryptamine

N,N-diisopropyltryptamine

N,N-dimethyl-2-methyltryptamine

N,N-dimethyl-4,5-methylenedioxytryptamine

N,N-dimethyl-4-hydroxytryptamine

N,N-dimethyl-5,6-methylenedioxytryptamine

N,N-dimethyl-5-methylthiotryptamine

N,N-dipropyltryptamine

N,N-tetramethylenetryptamine

N-butyl-N-methyltryptamine

N-ethyl-4-hydroxy-N-methyltryptamine

N-ethyl-N-isopropyltryptamine

N-ethyltryptamine

4-methoxy-N-methyl-N-isopropyltryptamine

5-methoxy-N-methyl-N-isopropyltryptamine

N-isopropyl-N-methyl-5,6-methylenedioxytryptamine

N-isopropyl-N-methyltryptamine

N-methyltryptamine

4-acetoxy-N-methyl-N-isopropyltryptamine

4-acetoxy-N,N-diisopropyltryptamine

4-acetoxy-N,N-dipropyltryptamine

4-acetoxy-N,N-diethyltryptamine

5-methoxy-N,N-diallyltryptamine

5-methoxy-N-monoallyltryptamine

5-methoxy-N-methyl-N-isopropyltryptamin

N-methyl-N-isopropyltryptamine

4-hydroxy-N,N-diethyltryptamine

5-methoxy-N,N-diethyltryptamine

Such information may be submitted to the Drug and Chemical Evaluation Section and is requested by October 3, 2006. Information designated as confidential or proprietary will be treated accordingly. Confidential business information is protected from disclosure under Exemption 4 of the Freedom of Information Act, 5 U.S.C. 552(b)(4)(FOIA) and the Department of Justice procedures set forth in 28 CFR 16.8.

Dated: July 28, 2006.
Joseph T. Rannazzisi,
Deputy Assistant Administrator, Office of Diversion Control.

[FR Doc. E6-12599 Filed 8-3-06; 8:45 am]

BILLING CODE 4410-09-P